DEPARTMENT OF TRANSPORTATION

Pipeline and Hazardous Materials Safety Administration

[Docket No. PHMSA-2019-0015]

Pipeline Safety: Request for Special Permit; Gulf South Pipeline Company, LP

AGENCY: Pipeline and Hazardous Materials Safety Administration (PHMSA); DOT.

ACTION: Notice.

SUMMARY: PHMSA is publishing this notice to seek public comments on a request for a special permit, seeking relief from compliance with certain requirements in the Federal pipeline safety regulations. At the conclusion of the 30-day comment period, PHMSA will review the comments received from this notice as part of its evaluation to grant or deny the special permit request.

DATES: Submit any comments regarding this special permit request by April 25, 2019.

ADDRESSES: Comments should reference the docket number for the specific special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Privacy Act Statement: There is a privacy statement published at http://www.Regulations.gov. Comments, including any personal information provided, are posted without changes or edits to http://www.Regulations.gov.

FOR FURTHER INFORMATION CONTACT:

General: Ms. Kay McIver by telephone at 202-366-0113, or email at kay.mciver@dot.gov.

Technical: Mr. Steve Nanney by telephone at 713-272-2855, or email at Steve.Nanney@dot.gov.

SUPPLEMENTARY INFORMATION: PHMSA received a special permit request from Gulf South Pipeline Company, LP, (GSPC) to deviate from the federal pipeline safety regulations in 49 CFR 192.611, for one segment of 30-inch diameter, Index 330 Pipeline, located in St. Mary Parish, Louisiana, where the class location has changed from a Class 1 location to a Class 3 location. The application requests a new permit to operate the existing Class 1 pipe in the new Class 3 location for the segment from survey station 527+87 to 567+51 (3964 feet).

The proposed special permit inspection area extends from survey station 0+03, the start of the Index 330 Pipeline at Bayou Sale Junction, to survey station 1212+28 at the Weeks Island Junction. The Inspection Area is 22.96 miles long (121,558 feet) and extends from St. Mary Parish to Iberia Parish in Louisiana.

In lieu of pipe replacement, GSPC seeks permission to perform alternative risk control activities based on integrity management program principles and requirements.

The special permit request provided by the operator includes a draft environmental assessment (EA), proposed special permit conditions, and location map. These documents are filed at http://www.Regulations.gov, in Docket No. PHMSA-2019-0015. We invite interested persons to participate by reviewing the proposed special permit documents and draft EA at http://www.Regulations.gov, and by submitting written comments, data or other views. Please include any comments on potential safety and environmental impacts that may result if the special permit is granted.

Before issuing a decision on the special permit request, PHMSA will evaluate all comments received on or before the comment closing date. Comments received after the comment closing date will be evaluated if it is possible to do so without incurring additional expense or delay. PHMSA will consider each relevant comment we receive in making our decision to grant or deny a request.

Issued in Washington, DC, on March 20, 2019, under authority delegated in 49 CFR 1.97.
Linda Daugherty,
Deputy Associate Administrator for Field Operations.

[FR Doc. 2019-05678 Filed 3-25-19; 8:45 am]

BILLING CODE 4910-60-P